DEPARTMENT OF COMMERCE

International Trade Administration

A-428-801

Ball Bearings and Parts Thereof from Germany: Final Results of Antidumping Duty Changed-Circumstances Review

AGENCY: Import Administration, International Trade Administration, Department of Commerce.

SUMMARY: On May 7, 2008, we published the preliminary results of changed-circumstances review of the antidumping duty order on ball bearings and parts thereof from Germany. See Preliminary Results of Antidumping Duty Changed-Circumstances Review, 73 FR 25663 (May 7, 2008) (Preliminary Results). Interested parties were invited to comment on these preliminary results. After reviewing parties' comments, we have affirmed the preliminary results and find that myonic GmbH is the successor-in-interest to Miniaturkugellager Gesellschaft mit beschränkter Haftung (MKL).

EFFECTIVE DATE: December 10, 2008.

FOR FURTHER INFORMATION CONTACT: David Dirstine or Richard Rimlinger, AD/CVD Operations, Office 5, Import Administration, International Trade Administration, U.S. Department of Commerce, 14th Street and Constitution Avenue, NW, Washington, DC 20230; telephone (202) 482-4033 and (202) 482-4477, respectively.

SUPPLEMENTARY INFORMATION:

Background

On May 7, 2008, the Department published a notice of preliminary results of its changed-circumstances review of the antidumping duty order on ball bearings and parts thereof from Germany in which it preliminarily determined that myonic GmbH is the successor-in-interest to MKL and should be accorded the same treatment previously accorded MKL with regard to the antidumping duty order on ball bearings and parts thereof from Germany. See Preliminary Results, 73 FR 25663.

On May 21, 2008, the petitioner, the Timken Company (Timken), submitted a case brief. Myonic submitted a rebuttal brief on June 17, 2008.

Scope of the Order

The products covered by this order are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

As a result of recent changes to the HTS, effective February 2, 2007, the subject merchandise is also classifiable under the following additional HTS item numbers: 8708.30.5090, 8708.40.7500, 8708.50.7900, 8708.50.8900, 8708.50.9150, 8708.50.9900, 8708.80.6590, 8708.94.75, 8708.95.2000, 8708.99.5500, 8708.99.68, and 8708.99.8180.

Analysis of the Comments Received

All issues raised in the case and rebuttal briefs by parties to this changed-circumstances review are addressed in the “Issues and Decision Memorandum” (Decision Memo) from Stephen J. Claeys, Deputy Assistant Secretary, to David M. Spooner, Assistant Secretary, dated December 1, 2008, which is hereby adopted by this notice. A list of the issues which parties have raised and to which we have responded is in the Decision Memo and attached to this notice as an Appendix. The Decision Memo, which is a public document, is on file in the Central Records Unit (CRU), main Department of Commerce building, Room 1117, and is accessible on the Web at http://ia.ita.doc.gov/frn/index.html. The paper copy and electronic version of the Decision Memo are identical in content.

Final Results of Changed-Circumstances Review

After consideration of the comments, we continue to find that myonic is the successor-in-interest to MKL and, as such, is entitled to MKL's cash-deposit rate with respect to entries of subject merchandise. Consequently, we will instruct U.S. Customs and Border Protection (CBP) to apply the cash-deposit rate in effect for MKL to all entries of the subject merchandise from myonic that were entered, or withdrawn from warehouse, for consumption on or after the date of publication of the final results of this changed-circumstances review. See Granular Polytetrafluoroethylene Resin from Italy: Final Results of Antidumping Duty Changed Circumstances Review, 68 FR 25327 (May 12, 2003).

This determination and this notice are in accordance with sections 751(b)(1) and 777(i)(1) of the Act and 19 CFR 351.216.

Dated: December 1, 2008.
David M. Spooner,
Assistant Secretary for Import Administration.

Appendix

1. Changes to MKL

2. Totality of the Circumstances

[FR Doc. E8-29218 Filed 12-9-08; 8:45 am]

BILLING CODE 3510-DS-S